ENVIRONMENTAL PROTECTION AGENCY

[FRL-8739-6]

Proposed CERCLA Administrative Cost Recovery Settlement; Portland Harbor Superfund Site, Triangle Park Removal Action Area

AGENCY: Environmental Protection Agency.

ACTION: Notice; request for public comment.

SUMMARY: In accordance with section 122(i) of the Comprehensive Environmental Response, Compensation, and Liability Act, as amended (“CERCLA”), 42 U.S.C. 9622(i), notice is hereby given of a proposed administrative settlement agreement under the authority of section 122(h) of CERCLA, 42 U.S.C. 9622(h), for recovery of response costs concerning the Triangle Park Removal Action Area within the Portland Harbor Superfund Site with Triangle Park LLC (“Settling Party”). The settlement requires the Settling Party to pay $1,200,000 to the Triangle Park Removal Action Area Trust Fund (“TP Trust Fund”) to be used to pay for the cleanup, and includes a covenant not to sue the Settling Party pursuant to sections 106 and 107(a) of CERCLA, 42 U.S.C. 9606 and 9607(a). The TP Trust Fund will be established pursuant to an existing Bona Fide Prospective Purchaser Agreement between the University of Portland (“University”) and EPA (“BFPP Agreement”). In the BFPP Agreement, the University agreed to conduct removal action on the Triangle Park property (“Property”) once the University completed the purchase of the Property. The University of Portland has entered into an agreement with Triangle Park LLC to purchase the Property. By acquiring the Property, the University intends to enlarge its campus so that it can continue to expand and pursue its educational and service mission by relocating certain athletic facilities, freeing up its existing land for academic buildings. The University's plan includes public access to the Property, recreational opportunities, including a planned riverfront trail. For thirty (30) days following the date of publication of this notice, the Agency will receive written comments relating to the settlement. The Agency will consider all comments received and may modify or withdraw its consent to the settlement if comments received disclose facts or considerations which indicate that the settlement is inappropriate, improper, or inadequate.

DATES: Comments must be received on or before December 10, 2008.

ADDRESSES: The proposed settlement is available for public inspection at the U.S. EPA Region 10 offices, located at 1200 Sixth Avenue, Seattle, Washington 98101. Comments should reference the Triangle Park Removal Action Area in Portland, Oregon, EPA Docket No. CERCLA-10-2008-0160 and sent to Jennifer G. MacDonald, Assistant Regional Counsel, U.S. EPA Region 10, Mail Stop ORC-158, 1200 Sixth Avenue, Suite 900, Seattle, Washington 98101.

FOR FURTHER INFORMATION CONTACT: Jennifer G. MacDonald, Assistant Regional Counsel, U.S. EPA Region 10, Mail Stop ORC-158, 1200 Sixth Avenue, Suite 900, Seattle, Washington 98101; (206) 553-8831.

Dated: September 29, 2008.
Daniel D. Opalski,
Director, Office of Environmental Cleanup.

[FR Doc. E8-26700 Filed 11-7-08; 8:45 am]

BILLING CODE 6560-50-P